DEPARTMENT OF TRANSPORTATION

Federal Aviation Administration

14 CFR Part 39

[Docket No. FAA-2005-22919; Directorate Identifier 2005-NM-087-AD; Amendment 39-14582; AD 2006-09-11]

RIN 2120-AA64

Airworthiness Directives; Airbus Model A319-100, A320-200, A321-100, and A321-200 Series Airplanes

AGENCY: Federal Aviation Administration (FAA), Department of Transportation (DOT).

ACTION: Final rule.

SUMMARY: The FAA is adopting a new airworthiness directive (AD) for certain Airbus Model A319-100, A320-200, A321-100, and A321-200 series airplanes. This AD requires repetitive inspections for corrosion in the inside and outside lower walls of each type A, D, E, and F lavatory wall that has at least one wall-mounted cabin attendant seat, and related investigative and corrective actions if necessary. The repetitive inspections may be terminated by repairing the wall with composite material, or replacing the entire wall with a new wall made of composite material. This AD results from reports of corrosion in the lower part of the lavatory walls due to water ingress. We are issuing this AD to detect and correct corrosion and damage on the lower part of the lavatory walls, which could compromise the structural integrity of the cabin attendant seat attachments, and cause injury to the cabin attendants during a crash landing.

DATES: This AD becomes effective June 16, 2006.

The Director of the Federal Register approved the incorporation by reference of certain publications listed in the AD as of June 16, 2006.

ADDRESSES: You may examine the AD docket on the Internet at http://dms.dot.gov or in person at the Docket Management Facility, U.S. Department of Transportation, 400 Seventh Street SW., Nassif Building, Room PL-401, Washington, DC.

Contact Airbus, 1 Rond Point Maurice Bellonte, 31707 Blagnac Cedex, France, for service information identified in this AD.

FOR FURTHER INFORMATION CONTACT: Tim Dulin, Aerospace Engineer, International Branch, ANM-116, Transport Airplane Directorate, FAA, 1601 Lind Avenue, SW., Renton, Washington 98055-4056; telephone (425) 227-2141; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A319-100, A320-200, A321-100, and A321-200 series airplanes. That NPRM was published in the Federal Register on November 10, 2005 (70 FR 68384). That NPRM proposed to require repetitive inspections for corrosion in the inside and outside lower walls of each type A, D, E, and F lavatory wall that has at least one wall-mounted cabin attendant seat, and related investigative and corrective actions if necessary.

Comments

We provided the public the opportunity to participate in the development of this AD. We have considered the comments received.

Request To Extend Compliance Time Based on Future Revision of French AD

Airbus states that French airworthiness directive F-2005-046, dated March 16, 2005, which is the parallel airworthiness directive for this AD, will be revised to extend the repetitive inspection interval from 18 months to 20 months for airplanes on which no corrosion is found.

We infer that Airbus requests that we revise the NPRM to extend the repetitive inspection interval. We disagree. Both the AD and the current French airworthiness directive require repeat inspections at the intervals defined in Airbus Service Bulletin A320-25-1365, dated February 18, 2005 (which is referenced as an appropriate source of service information for accomplishing the actions proposed in the AD). If the French airworthiness directive and the Airbus service bulletins are revised in the future to reflect a changed repetitive inspection interval, we may consider further rulemaking. However, operators may request an extension of the compliance time as an alternative method of compliance in accordance with the procedures in paragraph (j) of this AD. No change to the AD is necessary in this regard.

Request To Extend Compliance Time Based on Maintenance Schedule

Northwest Airlines requests that we extend the compliance time for the initial inspection to match its L-check interval of 23 months with no flight-hour limitations. Northwest Airlines states that we did not provide justification in the NPRM for either the initial or repeat inspection intervals. Northwest Airlines also notes that corrosion is typically a factor of calendar time, not flight hours. Northwest Airlines is convinced that an extension to 23 months with no flight-hour limitation on the initial inspections would provide an equivalent level of safety. Northwest Airlines states that this change to the compliance times would give operators enough time to schedule the work in the optimal maintenance environment.

We do not agree with the request to extend the compliance times. We have determined that the compliance times proposed in the NPRM represent the maximum interval of time allowable for the affected airplanes to continue to safely operate before the inspections are done. Since maintenance schedules vary among operators, it is not possible to accommodate every operator's maintenance schedule. However, operators may request an extension of the compliance time as an alternative method of compliance in accordance with the procedures in paragraph (j) of this AD. We have not changed the AD in this regard.

Request To Give Temporary Minimum Equipment List (MEL) Relief

Northwest Airlines also requests that we allow temporary MEL relief to allow operators to make repairs at the next scheduled hangar maintenance visit. Northwest Airlines explains that operators run a considerable operational risk while complying with Airbus Service Bulletin A320-25-1365. Northwest Airlines points out that the logic diagram, Figure 1, Sheet 1, of the service bulletin, allows a “Lavatory wall to be repaired within 600 flight hours (as long as) cabin attendant seats (CAS) not used until lavatory wall is repaired.” According to Northwest Airlines, this contradicts the MEL, which gives 3 days or 10 days, depending on the CAS location, for corrective action to be taken. Northwest Airlines notes that since the flight attendant will need to use a passenger seat in the event that a CAS is blocked off, an equivalent level of safety is maintained regardless of how long it takes to repair the seat.

We disagree that there is a conflict between the compliance time for these repairs that is stated in the AD and the compliance time for the same repairs that are specified in the MEL. The MEL addresses inoperative equipment and the ability to dispatch the airplane with that equipment inoperative. This AD addresses a situation where the attachment of the CAS may be under-strength due to corrosion damage. The CAS is still usable, per se, and the AD provides 600 flight hours within which to repair any damage found as a result of the required inspections. In this case there is no conflict because of the two totally different issues addressed by the MEL and the AD. We do not agree to allow repairs at the next scheduled maintenance visit because the schedule for maintenance visits can vary widely among operators. No change to the AD is necessary.

Explanation of Changes to Optional Terminating Action Paragraph (h)

We have revised paragraph (h) to include more detail about the applicable component maintenance manual (CMM) for each lavatory. We have also specified that one of the repair options must be done in accordance with a method approved by the FAA or the Direction Générale de l'Aviation Civile (DGAC) (or its delegated agent), but that the applicable CMM is one approved method. These changes provide more information and flexibility for operators.

Conclusion

We have carefully reviewed the available data, including the comments received, and determined that air safety and the public interest require adopting the AD with the changes described previously. We have determined that these changes will neither increase the economic burden on any operator nor increase the scope of the AD.

Costs of Compliance

This AD affects about 393 airplanes of U.S. registry. The inspection takes about 2 work hours per lavatory, at an average labor rate of $65 per work hour. Based on these figures, the estimated cost of the AD for U.S. operators is $51,090, or $130 per lavatory, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-09-11 Airbus: Amendment 39-14582. Docket No. FAA-2005-22919; Directorate Identifier 2005-NM-087-AD.

Effective Date

(a) This AD becomes effective June 16, 2006.

Affected ADs

(b) None.

Applicability

(c) This AD applies to Airbus Model A319-111, -112, -113, -114, -115, -131, -132, and -133 airplanes; Model A320-211, -212, -214, -231, -232, and -233 airplanes; Model A321-111, -112, and -131 airplanes; and Model A321-211 and -231 airplanes; certificated in any category; equipped with the lavatories in Table 1 of this AD, onto which at least one cabin attendant seat (CAS) is attached; except those airplanes with lavatory walls that have not been modified since the application of Airbus Modification 31574 in production.

Table 1.—Lavatory Installations Affected by This AD
Lavatory— | Installed by Airbus Modification
Type A DASELL | 23125
Type D DASELL | 22815
Type E DASELL | 22819
Type F DASELL | 23695

Unsafe Condition

(d) This AD results from reports of corrosion in the lower part of the lavatory walls due to water ingress. We are issuing this AD to detect and correct corrosion and damage on the lower part of the lavatory walls, which could compromise the structural integrity of the CAS attachments, and cause injury to the cabin attendants during a crash landing.

Compliance

(e) You are responsible for having the actions required by this AD performed within the compliance times specified, unless the actions have already been done.

Service Bulletin Reference

(f) For the purposes of this AD, unless otherwise specified, the term “service bulletin” means the Accomplishment Instructions of Airbus Service Bulletin A320-25-1365, dated February 18, 2005.

Repetitive Inspections and Corrective Actions

(g) Within 2,400 flight hours or 15 months after the effective date of this AD, whichever occurs earlier: Do a detailed inspection for corrosion and damage in the inside and outside lower walls of each type A, D, E, and F lavatory wall that has at least one wall-mounted CAS, and do all applicable related investigative and corrective actions as applicable, including any supporting non-destructive testing and related investigative actions. Do all actions in accordance with the procedures and time-frames defined in the Accomplishment Instructions of the service bulletin. Repeat the inspection at the applicable time specified in Figure 1 Sheet 1 of the service bulletin.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Optional Terminating Action

(h) Doing the permanent repair in paragraph (h)(1) or (h)(2) of this AD terminates the repetitive inspection requirements of this AD.

(1) Repair the aluminum wall with composite material in accordance with a method approved by either the Manager, International Branch, ANM-116, Transport Airplane Directorate, FAA; or the Direction Générale de l'Aviation Civile (or its delegated agent). The applicable lavatory component maintenance manual (CMM) in paragraph (h)(1)(i), (h)(1)(ii), (h)(1)(iii), or (h)(1)(iv) of this AD is one approved method.

(i) Airbus CMM Lavatory A 25-41-51.

(ii) Airbus CMM Lavatory D 25-43-51.

(iii) Airbus CMM Lavatory E 25-41-52.

(iv) Airbus CMM Lavatory F 25-43-53.

(2) Replace the aluminum wall with a new wall made of composite material in accordance with the Accomplishment Instructions of the applicable service bulletin in paragraph (h)(2)(i), (h)(2)(ii), or (h)(2)(iii) of this AD.

(i) For lavatory A: Airbus Service Bulletin A320-25-1289, Revision 01, dated October 29, 2003.

(ii) For lavatories D and E: Airbus Service Bulletin A320-25-1365, dated February 18, 2005, which references Airbus CMM Lavatory D 25-43-51; and Airbus CMM Lavatory E 25-41-52, as applicable, as an additional source of service information for doing the replacement.

(iii) For lavatory F: Airbus Service Bulletin A320-25-1357, dated July 19, 2004.

Actions Accomplished in Accordance With Previous Issue of a Service Bulletin

(i) Replacement of the lavatory A wall done before the effective date of this AD in accordance with Airbus Service Bulletin A320-25-1289, dated October 11, 2002, is acceptable for compliance with the requirements of paragraph (h)(2)(i) of this AD.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) French airworthiness directive F-2005-046, dated March 16, 2005, also addresses the subject of this AD.

Material Incorporated by Reference

(l) You must use Airbus Service Bulletin A320-25-1365, dated February 18, 2005, to perform the actions that are required by this AD, unless the AD specifies otherwise. The optional terminating action, if accomplished, must be done in accordance with the service information in Table 2 of this AD, as applicable, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 2.—Material for Optional Terminating Action Incorporated by Reference
Airbus service bulletin | Revision level | Date
A320-25-1289 | 01 | October 29, 2003.
A320-25-1357 | Original | July 19, 2004.
A320-25-1365 | Original | February 18, 2005.

Issued in Renton, Washington, on April 26, 2006.
Ali Bahrami,
Manager, Transport Airplane Directorate, Aircraft Certification Service.

[FR Doc. 06-4134 Filed 5-11-06; 8:45 am]

BILLING CODE 4910-13-U